DEPARTMENT OF THE INTERIOR

Bureau of Indian Affairs

Indian Gaming

AGENCY: Bureau of Indian Affairs, Interior.

ACTION: Notice of Approved Tribal—State Class III Gaming Amendment.

SUMMARY: This notice publishes an approval of Amendment II of the Amended and Restated Class III Gaming Compact between the Confederated Tribes of the Umatilla Indian Reservation and the State of Oregon.

DATES: Effective Date: March 4, 2008.

FOR FURTHER INFORMATION CONTACT: George T. Skibine, Director, Office of Indian Gaming, Office of the Deputy Assistant Secretary—Policy and Economic Development, Washington, DC 20240, (202) 219-4066.

SUPPLEMENTARY INFORMATION: Under Section 11 of the Indian Gaming Regulatory Act of 1988 (IGRA) Public Law 100-497, 25 U.S.C. 2710, the Secretary of the Interior shall publish in the Federal Register notice of approved Tribal—State compacts for the purpose of engaging in Class III gaming activities on Indian lands. This Amendment revises the video lottery terminal definition, removes some check cashing restrictions, and addresses the proposed new Oregon State Police billing plan.

Dated: February 25, 2008.
Carl J. Artman,
Assistant Secretary, Indian Affairs.

[FR Doc. E8-4059 Filed 3-3-08; 8:45 am]

BILLING CODE 4310-4N-P